DEPARTMENT OF HOUSING AND URBAN DEVELOPMENT

[Docket No. FR-5750-N-44]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Ritta, Ms. Theresa M. Ritta, Chief Real Property Branch, the Department of Health and Human Services, Room 5B-17, Parklawn Building, 5600 Fishers Lane, Rockville, MD 20857, (301)-443-6672 (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Agriculture: Ms. Debra Kerr, Department of Agriculture, Reporters Building, 300 7th Street SW., Room 300, Washington, DC 20024, (202) 720-8873; COE: Ms. Brenda John-Turner, Army Corps of Engineers, Real Estate, HQUSACE/CEMP-CR, 441 G Street NW., Washington, DC 20314; (202) 761-5222; Energy: Mr. David Steinau, Department of Energy, Office of Property Management, 1000 Independence Ave. SW., Washington, DC 20585 (202) 287-1503; GSA: Mr. Flavio Peres, General Services Administration, Office of Real Property Utilization and Disposal, 1800 F Street NW., Room 7040 Washington, DC 20405, (202) 501-0084; NASA: Mr. Frank T. Bellinger, Facilities Engineering Division, National Aeronautics & Space Administration, Code JX, Washington, DC 20546, (202)-358-1124 (These are not toll-free numbers).

Dated: October 23, 2014 .
Brian P. Fitzmaurice
Director, Division of Community Assistance, Office of Special Needs Assistance Programs.

TITLE V, FEDERAL SURPLUS PROPERTY PROGRAM FEDERAL REGISTER REPORT FOR 10/31/2014

Suitable/Available Properties

Building

Alaska

FAA Housing

111 Henrichs Loop Road

Cordova AK 99754

Landholding Agency: GSA

Property Number: 54201440002

Status: Excess

GSA Number: 9-U-AK-0854

Directions: Disposal Agency; GSA; Land Holding Agency; Transportation

Comments: 25+ yrs. old; 2,688 sq. ft.; 3 months vacant; residential good condition; may be difficult to move; contact GSA for more information.

California

Mad River Single Wide Trailer

@Ruth Fire Station

741 State Hwy 36

Mad River CA 95552

Landholding Agency: Agriculture

Property Number: 15201440001

Status: Excess

Comments: off-site removal only; 35+ yrs. old; 768 sq. ft.; very poor conditions; located in a secure area; contact Agriculture for more information.

Oklahoma

SWT—Robert S. Kerr Lake

HC 61, Box 238

Sallisaw OK 74955-9445

Landholding Agency: COE

Property Number: 31201440001

Status: Unutilized

Comments: off-site removal only; no future agency need; 42+ yrs. old; 263.97 sq. ft.; toilet; deterioration & damage to structure; contact COE for more information.

SWT—Waurika Lake

Route 1, Box 68

Waurika OK 73573-9721

Landholding Agency: COE

Property Number: 31201440002

Status: Unutilized

Comments: off-site removal only; no future agency need; 34+ yrs. old; 370.98 sq. ft.; toilet; deterioration & damage to structure; contact COE for more information.

SWT—WD Mayo Lock & Dam 14

14213 L & D Road

Spiro OK 74959-9625

Landholding Agency: COE

Property Number: 31201440003

Status: Unutilized

Comments: off-site removal only; no future agency need; 39+ yrs. old; 295.02 sq. ft.; toilet; deterioration & damage to structure; contact COE for more information.

SWT—Keystone Lake

23115—West Wekiwa Road

Sand Springs OK 74063-9312

Landholding Agency: COE

Property Number: 31201440004

Status: Unutilized

Comments: off-site removal only; 27+ yrs. old; no future agency need; 327.96 sq. ft.; toilet; deterioration; extensive repairs required; contact COE for more information.

Claremore Federal Office

Building

118 South Missouri Avenue

Claremore OK 74017

Landholding Agency: GSA

Property Number: 54201440001

Status: Surplus

GSA Number: 7-I-OK-0568-AB

Directions: Disposal Agency; GSA; Landholding Agency; Bureau of Indian Affairs.

Comments: 79+ yrs. old; 8,798 sq. ft.; vacant 114 months; office; brick; may be difficult to remove; ok condition; secure area; contact GSA for more information.

Texas

Whitney Lake

285 CR 3602

Clifton TX 76634

Landholding Agency: COE

Property Number: 31201440006

Status: Excess

Directions: WH-2758; WH-27971; WH-27984

Comments: off-site removal only; 62+ yrs. old; 257.04 sq. ft.; restroom; contact COE for more information.

Unsuitable Properties

Building

Alaska

Yakutat Upper Air Inflation

Shelter

Yakutat Airport

Yakutat AK 99689

Landholding Agency: GSA

Property Number: 54201440003

Status: Excess

GSA Number: 9-C-AK-00856AB

Directions: Disposal Agency; GSA; Landholding Agency; Commerce.

Comments: property located within an Airport Runway protected zone.

Reasons: Secured Area

Florida

Instrumentation Facility

K7.1557

Kennedy Space Center FL 32899

Landholding Agency: NASA

Property Number: 71201440006

Status: Unutilized

Comments: public access denied & no alternative method to gain access w/out compromising Nat'l Sec.

Reasons: Secured Area

Headquarters Building

M6-0399/Headquarters Bldg. 1st Street SE

Kennedy Space Center FL 32899

Landholding Agency: NASA

Property Number: 71201440007

Status: Underutilized

Comments: public access denied & no alternative method to gain access w/out compromising Nat'l Sec.

Reasons: Secured Area

Parachute Refurbishment

Facility

M7-0657 E Ave. SE

Kennedy Space Center FL 32899

Landholding Agency: NASA

Property Number: 71201440008

Status: Unutilized

Comments: public access denied & no alternative method to gain access w/out compromising Nat'l Sec.

Reasons: Secured Area

Solar Array Test Building

60540—Hangar Road

CCAFS FL 32925

Landholding Agency: NASA

Property Number: 71201440009

Status: Unutilized

Comments: public access denied & no alternative method to gain access w/out compromising Nat'l Sec.

Reasons: Secured Area

Hangar M Annex

14955 Hangar Rd.

CCAFS FL 32925

Landholding Agency: NASA

Property Number: 71201440010

Status: Unutilized

Comments: public access denied & no alternative method to gain access w/out compromising Nat'l Sec.

Reasons: Secured Area

Central Instrumentation

Facility

M6-0342 1st Street SE

Kennedy Space Center FL 32899

Landholding Agency: NASA

Property Number: 71201440011

Status: Unutilized

Comments: public access denied & no alternative method to gain access w/out compromising Nat'l Sec.

Reasons: Secured Area

Generator Building

K7-1557A

Kennedy Space Center FL 32899

Landholding Agency: NASA

Property Number: 71201440013

Status: Unutilized

Comments: public access denied & no alternative method to gain access w/out compromising Nat'l Sec.

Reasons: Secured Area

Mississippi

Bldg. 1106 EPA Storage Facility

Stennis Space Center

Hancock County MS 39529

Landholding Agency: NASA

Property Number: 71201440012

Status: Unutilized

Comments: public access denied & no alternative method to gain access w/out compromising Nat'l Sec.

Reasons: Secured Area

Bldg. 1107 Dioxin Lab

Stennis Space Center

Hancock County MS 39529

Landholding Agency: NASA

Property Number: 71201440014

Status: Unutilized

Comments: public access denied & no alternative method to gain access w/out compromising Nat'l Sec.

Reasons: Secured Area

Tennessee

Y-12 National Security Complex

Bear Creek Rd. at Scarboro Road

Oak Ridge TN 37831

Landholding Agency: Energy

Property Number: 41201440004

Status: Unutilized

Directions: 9416-12; 9416-14; 9416-41; 9424-01; 9424-02; 9610-01; 9616-10; 9770-06; 9616-09; 9720-17; 9720-22; 9720-24; 9111; 9112; 9204-04; 9206; 9401-03; 9401-04; 9404-16; 9404-17; 9404-18; 9404-20; 9959-01; 9977; 9949-17; 9826; 9811-04; 9811-03; 9803; 9770-11; 9770-10; 9811-06; 9811-07; 9949-37; 9976; 9990-03

Comments: highly classified secured area; public access denied & no alternative method to gain access w/out compromising nat'l security.

Reasons: Secured Area

[FR Doc. 2014-25793 Filed 10-30-14; 8:45 am]

BILLING CODE 4210-67-P